FEDERAL DEPOSIT INSURANCE CORPORATION

Agency Information Collection Activities: Submission for OMB Review; Comment Request Re: Retail Foreign Exchange Transactions

AGENCY: Federal Deposit Insurance Corporation (FDIC).

ACTION: Notice and request for comment.

SUMMARY: In accordance with the requirements of the Paperwork Reduction Act (PRA) of 1995 (44 U.S.C. chapter 35), the FDIC may not conduct or sponsor, and the respondent is not required to respond to, an information collection unless it displays a currently valid Office of Management and Budget (OMB) control number. As part of its continuing effort to reduce paperwork and respondent burden, the FDIC invites the general public and other Federal agencies to take this opportunity to comment on renewal of an existing information collection as required by PRA. On March 18, 2014 (79 FR 15122), the FDIC requested comment for 60 days on renewal of its information collection entitled Retail Foreign Exchange Transactions, which is currently approved under OMB Control No. 3064-0182. No comments were received on the proposal to renew. The FDIC hereby gives notice of submission to OMB of its request to renew the collection.

DATES: Comments must be submitted on or before June 26, 2014.

ADDRESSES: Interested parties are invited to submit written comments to the FDIC by any of the following methods:

• http://www.FDIC.gov/regulations/laws/federal/

• Email: comments@fdic.gov Include the name of the collection in the subject line of the message.

• Mail: Leneta G. Gregorie (202-898-3719), Counsel, Room NYA-5050, Federal Deposit Insurance Corporation, 550 17th Street NW., Washington, DC 20429.

• Hand Delivery: Comments may be hand-delivered to the guard station at the rear of the 17th Street Building (located on F Street), on business days between 7:00 a.m. and 5:00 p.m.

All comments should refer to the relevant OMB control number. A copy of the comments may also be submitted to the OMB desk officer for the FDIC: Office of Information and Regulatory Affairs, Office of Management and Budget, New Executive Office Building, Washington, DC 20503.

FOR FURTHER INFORMATION CONTACT: Leneta Gregorie, at the FDIC address above.

SUPPLEMENTARY INFORMATION:

Proposal to renew without change the following currently approved collections of information

Title: Retail Foreign Exchange Transactions.

OMB Number: 3064-0182.

Frequency of Response: Event generated.

Affected Public: Insured state nonmember banks and state savings associations.

Estimated Number of Respondents: 3 state nonmember banks; 1 service provider.

Estimated Time per Response: Various, ranging from one to 16 hours.

Estimated Annual Burden: reporting—48 hours; disclosure—5,326 hours; recordkeeping—664 hours.

Total Estimated Annual Burden: 6,038 hours.

General Description of Collection: FDIC regulations governing retail foreign exchange transactions are set forth at 12 CFR part 349. The regulations prescribe appropriate requirements—including disclosure, recordkeeping, capital and margin, reporting, business conduct, and documentation requirements—for foreign currency futures, options on futures, and options that FDIC-supervised institutions engage in with retail customers. In addition, the regulations impose requirements on other foreign currency transactions that are functionally or economically similar, including so called “rolling spot” transactions that an individual enters into with a foreign currency dealer, usually through the Internet or other electronic platform, to transact in foreign currency.

Request for Comment

Comments are invited on: (a) Whether the collection of information is necessary for the proper performance of the FDIC's functions, including whether the information has practical utility; (b) the accuracy of the estimates of the burden of the information collection, including the validity of the methodology and assumptions used; (c) ways to enhance the quality, utility, and clarity of the information to be collected; and (d) ways to minimize the burden of the information collection on respondents, including through the use of automated collection techniques or other forms of information technology. All comments will become a matter of public record.

Dated at Washington, DC, this 21st day of May, 2014.
Federal Deposit Insurance Corporation.
Robert E. Feldman,
Executive Secretary.

[FR Doc. 2014-12102 Filed 5-23-14; 8:45 am]

BILLING CODE 6714-01-P